DEPARTMENT OF THE INTERIOR

Office of the Secretary

Public Availability of Department of the Interior FY 2012 Service Contract Inventory and FY 2011 Service Contract Inventory Report

AGENCY: Office of Acquisition and Property Management, Interior.

ACTION: Notice of Public Availability of FY 2012 Service Contract Inventory and the FY 2011 Service Contract Inventory Report.

SUMMARY: The Department of the Interior is publishing this notice to advise the public of the availability of the fiscal year (FY) 2012 Service Contract Inventory and the FY 2011 Service Contract Inventory Report, in accordance with Section 743 of Division C of the Consolidated Appropriations Act of 2010 (Pub. L. 111-117). The inventory provides information on service contract actions over $25,000 that the Department made in FY 2012. The information is organized by function to show how contracted resources are distributed throughout the Department. The Department's analysis of its FY 2011 Service Contract inventory is summarized in the FY 2011 Service Contract Inventory report. The 2012 inventory and 2011 report were developed in accordance with guidance issued on December 19, 2011 and November 5, 2010, by the Office of Management and Budget's Office of Federal Procurement Policy (OFPP). OFPP's guidance is available at http://www.whitehouse.gov/sites/default/files/omb/procurement/memo/service-contract-inventories-guidance-11052010.pdf. The Department of the Interior has posted its FY 2012 Service Contract Inventory and a summary of the 2011 inventory on the Department of the Interior homepage at the following link: http://www.doi.gov/pam/service-contract-inventory-report.cfm.

FOR FURTHER INFORMATION CONTACT: Questions regarding the service contract inventory should be directed to Brigitte Meffert in the Office of Acquisition and Property Management at 202-513-0669 or brigitte_meffert@ios.doi.gov.

Pamela K. Haze,
Deputy Assistant Secretary—Budget, Finance, Performance and Acquisition.

[FR Doc. 2013-05964 Filed 3-14-13; 8:45 am]

BILLING CODE 4310-RF-M